DEPARTMENT OF THE TREASURY

Internal Revenue Service

26 CFR Part 1

[TD 9355]

RIN 1545-BF66

Clarification of Section 6411 Regulations; Correcting Amendment

AGENCY: Internal Revenue Service (IRS), Treasury.

ACTION: Correcting amendment.

SUMMARY: This document contains corrections to final and temporary regulations that were published in the Federal Register on Monday, August 27, 2007 (72 FR 48933) clarifying that for purposes of allowing a tentative adjustment, the IRS may credit or reduce the tentative adjustment by an assessed tax liability.

DATES: This correction is effective October 4, 2007.

FOR FURTHER INFORMATION CONTACT: Cynthia McGreevy at (202) 622-4910 (not a toll-free number).

SUPPLEMENTARY INFORMATION:

Background

The final and temporary regulations (TD 9355) that are the subject of these corrections are under section 6411 of the Internal Revenue Code.

Need for Correction

As published, these final and temporary regulations (TD 9355) contain errors that may prove to be misleading and are in need of clarification.

List of Subjects in 26 CFR Part 1

Income taxes, Reporting and recordkeeping requirements.

PART 1—INCOME TAXES

Correction of Publication

Accordingly, the final and temporary regulations (TD 9355) that are the subject of FR. Doc. E7-16878 are corrected as follows:

Paragraph 1. The authority citation for part 1 continues to read in part as follows:

Authority: 26 U.S.C. 7805 * * *

§ 1.6411-2 [Corrected]

Par. 2. Section § 1.6411-2(b), fourth sentence is amended by removing the language “District director” in the second column of the chart and adding the language “district director” in its place.

§ 1.6411-3 [Corrected]

Par. 3. Section § 1.6411-3(b), first sentence is amended by removing the language “Deemed” in the third column of the chart and adding the language “deemed” in its place.

Par. 4. Section § 1.6411-3(b), second sentence is amended by removing the language “he” in the second column of the chart and adding the language “He” in its place.

Par. 5. Section § 1.6411-3(b), fifth sentence is amended by removing the language “May” in the third column of the chart and adding the language “may” in its place.

Par. 6. Section § 1.6411-3(d)(2), fifth sentence is amended by removing the language “The Commissioner” in the third column of the chart and adding the language “the Commissioner” in its place.

La Nita Van Dyke,
Branch Chief, Publications and Regulations Branch, Legal Processing Division, Office of Associate Chief Counsel (Procedure and Administration).

[FR Doc. E7-19572 Filed 10-3-07; 8:45 am]

BILLING CODE 4830-01-P